DEPARTMENT OF COMMERCE

National Oceanic and Atmospheric Administration

Proposed Information Collection; Comment Request; Northeast Multispecies Amendment 16N

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 21, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Aja Szumylo, (978) 281-9195 or Aja.szumylo@noaa.gov.

SUPPLEMENTARY INFORMATION:

I. Abstract

This request is for revision and extension of a current information collection. Under the Magnuson-Stevens Fishery Conservation and Management Act (MSA), the Secretary of Commerce has the responsibility for the conservation and management of marine fishery resources. We, National Oceanic and Atmospheric Administration's (NOAA) National Marine Fisheries Service (NMFS), and the Regional Fishery Management Councils are delegated the majority of this responsibility. The New England Fishery Management Council (Council) develops management plans for fishery resources in New England.

In 2010, we implemented a new suite of regulations for the Northeast (NE) multispecies fishery through Amendment 16 to the Multispecies Fishery Management Plan (Amendment 16). This action updated status determination criteria for all regulated NE multispecies or ocean pout stocks; adopted rebuilding programs for NE multispecies stocks newly classified as being overfished and subject to overfishing; revised management measures, including significant revisions to the sector management measures, necessary to end overfishing, rebuild overfished regulated NE multispecies and ocean pout stocks, and mitigate the adverse economic impacts of increased effort controls. It also implemented new requirements under Amendment 16 for establishing acceptable biological catch (ABC), annual catch limits (ACLs), and accountability measures (AMs) for each stock managed under the FMP, pursuant to the Magnuson-Stevens Fishery Conservation and Management Act (Magnuson-Stevens Act).

Revisions

This revision incorporates a number of recent changes related to regulatory actions. Framework Adjustment 48 to the FMP (78 FR 26118; May 3, 2013) proposed to exempt sector vessels targeting monkfish from the additional at-sea monitoring coverage necessary to monitor groundfish catch. This measure was intended to allocate limited at-sea monitoring resources to monitor those trips that catch the most groundfish. To implement this measure, NMFS added a question to both the pre-trip notification and Northeast Fisheries Observer Program notification to allow fishermen to indicate what fishery they intend to participate in. This change allowed NMFS to identify trips that may qualify for this exemption, in order to deploy observers and at-sea monitors appropriately to achieve the coverage levels required by the FMP. Framework 48 also eliminated the dockside monitoring program established under Amendment 16 because NMFS determined dealer reporting combined with dockside intercepts by enforcement personnel are sufficient to ensure reliable landings data. Elimination of the dockside monitoring program was not included in the applicable non-substantive change request and thus this change will be included in the revision/extension.

As part of Framework Adjustment 53 to the FMP (80 FR 25110; May 1, 2015), NMFS implemented a requirement that vessels that declare trips into the Gulf of Maine Broad Stock Area and any other broad stock area (i.e., Georges Bank or Southern New England) on the same trip submit a daily catch report via vessel monitoring system (VMS). We determined the daily VMS trip reports were necessary to ensure accurate apportionment of catch and help enforcement efforts. This requirement was approved temporarily through emergency PRA approval. We are proposing to permanently adjust this information collection to include this reporting requirement.

II. Method of Collection

Respondents must submit either paper forms via postal service, or electronic forms submitted via the internet or a vessels' vessel monitoring system (VMS).

III. Data

OMB Control Number: 0648-0605.

Form Number: None.

Type of Review: Regular submission (revision and extension of a current information collection).

Affected Public: Business or for-profit organizations.

Estimated Number of Respondents: 1,482.

Estimated Time per Response: Sector operations plan and associated National Environmental Policy Act (NEPA) analysis, 640 hr/response; Monitoring service provider initial application, 10 hr/response; Monitoring service provider response to application disapproval, 10 hr/response; Data entry for sector discard monitoring system, 3 min/response; Sector weekly catch report, 4 hr/response; Sector annual report, 12 hr/response; Notification of expulsion from a sector, 30 min/response; Request to transfer Annual Catch Entitlement (ACE), 5 min/response; VMS certification form, 10 min/response; VMS confirmation call, 5 min/response; VMS area and DAS declaration, 5 min/response; VMS trip-level catch report; VMS daily catch reports when fishing in multiple broad stock areas, 15 min/response; Daily VMS catch reports when fishing in the U.S./Canada Management Area and CA II SAPs, 15 min/response; Daily VMS catch reports when fishing in the CA I Hook Gear Haddock SAP, 15 min/response; Daily VMS catch reports when fishing in the Regular B DAS Program, 15 min/response; Pre-trip hail report, 2 min/response; Trip-end hail report, 15 min/response; Forward trip start/end hails to NMFS, 2 min/response; ASM Pre-Trip Notification, 2 min/response; Vessel notification of selection for at-sea monitoring coverage, 5 min/response; at-sea monitor deployment report, 10 min/response; at-sea monitoring service provider catch report to NMFS upon request, 5 min/response; at-sea monitor report of harassment and other issues, 30 min/response; at-sea monitoring service provider contract upon request, 30 min/response; at-sea monitoring service provider information materials upon request, 30 min/response; OLE debriefing of at-sea monitors, 2 hr/response; ASM Database and Data Entry Requirements, 3 min/response; Observer program pre-trip notification, 2 min/response; DAS Transfer Program, 5 min/response; Expedited Submission of Proposed SAPs, 20 hr/response; NAFO Reporting Requirements, 10 min/response.

Estimated Total Annual Burden Hours: 81,126.

Estimated Total Annual Cost to Public: $ 4,298,000 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 19, 2015.
Sarah Brabson,
NOAA PRA Clearance Officer.

[FR Doc. 2015-12461 Filed 5-21-15; 8:45 am]

BILLING CODE 3510-22-P